DEPARTMENT OF ENERGY

Federal Energy Regulatory Commission

Combined Notice of Filings #1

Take notice that the Commission received the following exempt wholesale generator filings:

Docket Numbers: EG22-124-000.

Applicants: Great Pathfinder Wind, LLC.

Description: Great Pathfinder Wind, LLC submits Notice of Self-Certification of Exempt Wholesale Generator Status.

Filed Date: 5/19/22.

Accession Number: 20220519-5100.

Comment Date: 5 p.m. ET 6/9/22.

Take notice that the Commission received the following electric rate filings:

Docket Numbers: ER21-2524-003.

Applicants: PJM Interconnection, L.L.C.

Description: Compliance filing: Errata to Compliance ER21-2524-002 RE Req. for Waiver NAESB Business Practices to be effective 5/1/2022.

Filed Date: 5/19/22.

Accession Number: 20220519-5145.

Comment Date: 5 p.m. ET 6/9/22.

Docket Numbers: ER22-600-000.

Applicants: American Electric Power Service Corporation, Appalachian Power Company, Indiana Michigan Power Company, Kentucky Power Company, Kingsport Power Company, Ohio Power Company, Wheeling Power Company, PJM Interconnection, L.L.C.

Description: American Electric Power Service Corporation submits Supplemental Information to include actuarial reports for 2021 to the amended PBOP Informational filing on February 10, 2022.

Filed Date: 5/18/22.

Accession Number: 20220518-5187.

Comment Date: 5 p.m. ET 6/8/22.

Docket Numbers: ER22-1901-000.

Applicants: Ingenco Wholesale Power, LLC.

Description: Ingenco Wholesale Power, LLC submits a Prospective Waiver.

Filed Date: 5/17/22.

Accession Number: 20220517-5208.

Comment Date: 5 p.m. ET 6/7/22.

Docket Numbers: ER22-1903-000.

Applicants: PJM Interconnection, L.L.C.

Description: § 205(d) Rate Filing: Original IISA, Service Agreement No. 6442; Queue No. AF1-202 to be effective 4/19/2022.

Filed Date: 5/19/22.

Accession Number: 20220519-5046.

Comment Date: 5 p.m. ET 6/9/22.

Docket Numbers: ER22-1904-000.

Applicants: Southwest Power Pool, Inc.

Description: § 205(d) Rate Filing: 2827R8 KPP and Evergy Kansas Central Meter Agent Agreement to be effective 5/1/2022.

Filed Date: 5/19/22.

Accession Number: 20220519-5050.

Comment Date: 5 p.m. ET 6/9/22.

Docket Numbers: ER22-1905-000.

Applicants: Southwest Power Pool, Inc.

Description: § 205(d) Rate Filing: Revisions to Attachment V to Define Electromagnetic Transient Study to be effective 8/1/2022.

Filed Date: 5/19/22.

Accession Number: 20220519-5064.

Comment Date: 5 p.m. ET 6/9/22.

Docket Numbers: ER22-1906-000.

Applicants: Tri-State Generation and Transmission Association, Inc.

Description: § 205(d) Rate Filing: Amendment to SA 807 to be effective 5/18/2022.

Filed Date: 5/19/22.

Accession Number: 20220519-5070.

Comment Date: 5 p.m. ET 6/9/22.

Docket Numbers: ER22-1907-000.

Applicants: Red Lake Falls Community Hybrid LLC.

Description: Baseline eTariff Filing: Reactive Power Compensation Filing to be effective 7/1/2022.

Filed Date: 5/19/22.

Accession Number: 20220519-5076.

Comment Date: 5 p.m. ET 5/31/22.

Docket Numbers: ER22-1908-000.

Applicants: PJM Interconnection, L.L.C.

Description: § 205(d) Rate Filing: Original ISA, Service Agreement No. 6454; Queue No. AE1-237 to be effective 4/19/2022.

Filed Date: 5/19/22.

Accession Number: 20220519-5091.

Comment Date: 5 p.m. ET 6/9/22.

Docket Numbers: ER22-1909-000.

Applicants: PJM Interconnection, L.L.C.

Description: § 205(d) Rate Filing: Original ISA, Service Agreement No. 6540; Queue No. AC2-060/AD1-073 to be effective 4/19/2022.

Filed Date: 5/19/22.

Accession Number: 20220519-5096.

Comment Date: 5 p.m. ET 6/9/22.

Docket Numbers: ER22-1910-000.

Applicants: Wheeling Power Company.

Description: Tariff Amendment: RS 305 System Integration Agreement Concurrence Cancellation to be effective 5/22/2022.

Filed Date: 5/19/22.

Accession Number: 20220519-5121.

Comment Date: 5 p.m. ET 6/9/22.

Docket Numbers: ER22-1911-000.

Applicants: Kentucky Power Company.

Description: Tariff Amendment: Cancellation of Rate Schedule Concurrence to be effective 5/22/2022.

Filed Date: 5/19/22.

Accession Number: 20220519-5127.

Comment Date: 5 p.m. ET 6/9/22.

Docket Numbers: ER22-1912-000.

Applicants: PJM Interconnection, L.L.C.

Description: § 205(d) Rate Filing: First Revised ISA, Service Agreement No. 3793; Queue AB2-132 to be effective 4/20/2022.

Filed Date: 5/19/22.

Accession Number: 20220519-5132.

Comment Date: 5 p.m. ET 6/9/22.

Docket Numbers: ER22-1913-000.

Applicants: Ohio Power Company.

Description: Tariff Amendment: RS 201 and 301 Concurrence Cancellation to be effective 5/22/2022.

Filed Date: 5/19/22.

Accession Number: 20220519-5133.

Comment Date: 5 p.m. ET 6/9/22.

Docket Numbers: ER22-1914-000.

Applicants: Florida Power & Light Company.

Description: § 205(d) Rate Filing: FPL Revisions to MBR Tariff, Req for Expedited Action and Confidential Treatment to be effective 12/31/9998.

Filed Date: 5/19/22.

Accession Number: 20220519-5148.

Comment Date: 5 p.m. ET 6/9/22.

Docket Numbers: ER22-1915-000.

Applicants: Florida Power & Light Company.

Description: § 205(d) Rate Filing: A&R Peninsular FL-So. Trans Exp. AA-FPL, Duke, JEA, and City of Tallahassee to be effective 7/20/2022.

Filed Date: 5/19/22.

Accession Number: 20220519-5150.

Comment Date: 5 p.m. ET 6/9/22.

Docket Numbers: ER22-1916-000.

Applicants: Indiana Michigan Power Company.

Description: Tariff Amendment: RS 201, 301 and 305 Concurrence Cancellation to be effective 5/22/2022.

Filed Date: 5/19/22.

Accession Number: 20220519-5151.

Comment Date: 5 p.m. ET 6/9/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 19, 2022.
Debbie-Anne A. Reese,
Deputy Secretary.

[FR Doc. 2022-11232 Filed 5-24-22; 8:45 am]

BILLING CODE 6717-01-P